POSTAL SERVICE

39 CFR PART 20

International Inbound Registered Mail Procedures

AGENCY: Postal Service™.

ACTION: Final rule.

SUMMARY: The Postal Service has adopted different processing procedures for inbound international Registered Mail™; after it is received at an International Service Center.

DATES: Effective Date: June 1, 2009.

FOR FURTHER INFORMATION CONTACT: Margaret M. Falwell, 703-292-3576.

SUPPLEMENTARY INFORMATION: Inbound international Registered Mail entering the United States through the United States Postal Service® International Service Centers is offered in conformity with international agreements of the Universal Postal Union (UPU), U.S. law and the regulations of the United States Postal Service (USPS® or Postal Service). The UPU agreement requires verification upon receipt, processing through a secure mail system, and signature upon delivery. For these services, in addition to terminal dues, the delivering postal operator is provided a set amount in compensation from the originating postal operator, regardless of the cost of the delivery process. The Postal Service is not authorized to charge a premium for the delivery of these items to the addressee.

Through the December 20, 2006, enactment of the Postal Accountability and Enhancement Act (PAEA), Congress fundamentally changed the Postal Service's business model by converting it from one based on an expectation that it would break-even over time, to a more commercially competitive, profit-making model. This change requires the Postal Service to review all of its services in an effort to better align costs and revenues, while at the same time ensuring the security of the mail.

Domestic Registered Mail is handled in a separate hand-to-hand labor-intensive process from point of acceptance to delivery. The domestic Registered Mail fees are set by the Postal Service and are based on the stated value of the item, for which insurance is provided in the fee, up to $25,000. These fees take into account the labor and processing costs required to accept, process and deliver this mail.

In contrast, inbound international Registered Mail is defined by the UPU's agreement, which limits the compensation the Postal Service receives for providing the service and also limits the indemnity available to customers. The UPU agreement does not require hand-to-hand processing. Inbound international Registered Mail, therefore, will no longer be handled in the domestic Registered Mail system.

International senders of Registered Mail will continue to receive the features that distinguish this service. The Postal Service will verify the receipt of Registered Mail to the originating postal administration. A signature will be obtained at the time of delivery in accordance with domestic regulations governing the delivery of accountable mail. The sender also will have access to the inquiry process and may receive indemnity based on UPU limits for loss, damage or missing contents. Customers will also benefit from the high security of the domestic First-Class Mail® mailstream, which is protected by the United States Postal Inspection Service® and the United States Postal Service Office of Inspector General. The Postal Service anticipates improved service as well as cost savings as a result of this change to its operational handling of inbound international Registered Mail items.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 39 U.S.C. 401, 404, 407, 408, 3622, 3632, and 3633.

2. Revise the following sections of Mailing Standards of the United States Postal Service, International Mail Manual (IMM) to read as follows:

Mailing Standards of the United States Postal Service, International Mail Manual (IMM)

* * * * *

7 Treatment of Inbound Mail

* * * * *

750 Extra Services

* * * * *

752 Registered Mail

752.1 Identification

* * * * *

[Revise 752.13 to read as follows:]

752.13 Treatment of Registered Items

All mail registered by the country of origin must be handled in the domestic First-Class Mail mailstream from the exchange office to the office of delivery. A signed delivery receipt must be obtained at the time of delivery.

* * * * *

Stanley F. Mires,
Chief Counsel, Legislative.

[FR Doc. E9-7373 Filed 4-1-09; 8:45 am]

BILLING CODE 7710-12-P